INTERNATIONAL TRADE COMMISSION

[Investigation No. 337-TA-646]

In the Matter of Certain Power Supplies; Notice of Commission Determination Not To Review an Initial Determination Terminating the Investigation With Respect to Respondents Super Flower Computer, Inc. and Andyson International Co., Ltd. and Terminating the Investigation

AGENCY: U.S. International Trade Commission.

ACTION: Notice.

SUMMARY: Notice is hereby given that the U.S. International Trade Commission has determined not to review the presiding administrative law jud ge's (“ALJ”) initial determination (“ID”) (Order No. 18) granting the motion of complainants Ultra Products, Inc. and Systemax, Inc. to terminate the investigation with respect to respondents Super Flower Computer, Inc. and Andyson International Co., Ltd. based on withdrawal of allegations from the Complaint and terminating the investigation.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 8, 2008, based on a complaint filed by Ultra Products, Inc. of Fletcher, Ohio and Systemax Inc. of Port Washington, New York (collectively “Ultra”). 73 FR 26144-5 (May 8, 2008). The complaint, as amended and supplemented, alleges violations of section 337 of the Tariff Act of 1930, as amended, 19 U.S.C. 1337, in the importation into the United States, the sale for importation, and the sale within the United States after importation of certain power supplies by reason of infringement of certain claims of U.S. Patent No. 7,133,293. The complaint further alleges the existence of a domestic industry. The Commission's notice of investigation named a number of respondents including Andyson International Co., Ltd. of Taipei, Taiwan (“Andyson”). On July 21, 2008, the Commission determined not to review an ID granting Ultra's motion for leave to amend the complaint and notice of investigation to add a respondent, Super Flower Computer, Inc. (“Super Flower”). 73 FR 42365-6 (July 21, 2008).

On December 11, 2008, Ultra filed under Commission Rule 210.21(a) a motion for termination of the investigation with respect to respondents Andyson and Super Flower based on a withdrawal of allegations from the Complaint. Also on December 11, Ultra filed a motion to stay the procedural schedule pending the ALJ's decision on the motion to terminate. On December 22, 2008, the Commission Investigative Attorney filed a response in support of the motion to terminate Andyson and Super Flower. No other responses were filed.

On January 5, 2009, the ALJ issued the subject ID, granting under Commission Rule 210.21(a) Ultra's motion to terminate the investigation as to respondents Andyson and Super Flower. The ALJ noted that, with the termination of Andyson and Super Flower from the investigation, there are no longer any participating respondents in this investigation. All other named respondents were previously terminated from the investigation by way of settlement agreement, consent agreement, or default. The ALJ, therefore, terminated the investigation and stayed the procedural schedule. No petitions for review of this ID were filed.

The Commission has determined not to review the ID.

The authority for the Commission's determination is contained in section 337 of the Tariff Act of 1930, as amended (19 U.S.C. 1337), and in section 210.42 of the Commission's Rules of Practice and Procedure (19 CFR 210.42).

Issued: January 29, 2009.
By order of the Commission.
Marilyn R. Abbott,
Secretary to the Commission.

[FR Doc. E9-2293 Filed 2-3-09; 8:45 am]

BILLING CODE 7020-02-P